DEPARTMENT OF HEALTH AND HUMAN SERVICES

Children and Families Administration

[OMB #: 0970-0166]

Proposed Information Collection Activity; National Directory of New Hires

AGENCY: Office of Child Support Services, Administration for Children and Families, U.S. Department of Health and Human Services.

ACTION: Request for public comments.

SUMMARY: The Office of Child Support Services (OCSS), Administration for Children and Families (ACF), is requesting the Office of Management and Budget (OMB) to approve the National Directory of New Hires (NDNH), with minor changes to the Multistate Employer Registration form, for an additional three years. The current OMB approval expires July 31, 2025.

DATES: Comments due July 7, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The NDNH is a federally mandated repository of employment and wage information. The information maintained in the NDNH is collected electronically and used for authorized purposes. State child support agencies use the NDNH information to locate a parent living or working in a different State and to take appropriate interstate actions to establish, modify, or enforce a child support order. Specific State and Federal agencies also use NDNH information for authorized purposes to help administer certain programs, prevent overpayments, detect fraud, assess benefits, and recover funds, as provided under 42 U.S.C. 653(i)(1). OCSS changed the unconventional date format to a standard format in the NDNH record specifications and changed the Multistate Employer Registration Form to revise language, update links, and remove the option to submit it by mail.

Respondents: Employers, State Child Support Agencies, and State Workforce Agencies.

Annual Burden Estimates
Instrument | Annual number of respondents | Annual number of responses per respondent | Average annual burden hours per response | Annual burden hours
New Hire: Employers Reporting Manually | 5,667,878 | 1.56 | .025 | 221,047.24
New Hire: Employers Reporting Electronically | 626,726 | 126.80 | .00028 | 22,251.28
New Hire: States | 54 | 163,513.97 | .017 | 150,105.82
Quarterly Wage and Unemployment Insurance | 53 | 28.00 | .00028 | 0.42
Multistate Employer Registration Form | 1,555 | 1.00 | .05 | 77.75

Estimated Total Annual Burden Hours: 393,482.51.

Comments: The U.S. Department of Health and Human Services specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 653A(b)(1)(A) and (B); 42 U.S.C. 653A(g)(2)(A) and (B), 42 U.S.C. 503(h)(1)(A); and 26 U.S.C. 3304(a)(16)(B)

Mary C. Jones,
ACF/OPRE Certifying Officer.

[FR Doc. 2025-07708 Filed 5-2-25; 8:45 am]

BILLING CODE 4184-41-P